FEDERAL ELECTION COMMISSION

Sunshine Act Meetings

FEDERAL REGISTER CITATION NOTICE OF PREVIOUS ANNOUNCEMENT: 87 FR 69271.

PREVIOUSLY ANNOUNCED TIME, DATE, AND PLACE OF THE MEETING: Thursday, December 1, 2022 at 10:00 a.m.

Hybrid Meeting: 1050 First Street NE, Washington, DC (12th floor) and Virtual.

CHANGES IN THE MEETING: The Open Meeting began at 10:30 a.m.

The following matters were also considered:

REG 2013-01 (Technological Modernization): Supplemental Notice of Proposed Rulemaking

Draft Advisory Opinion 2022-24: Allen Blue

CONTACT PERSON FOR MORE INFORMATION: Judith Ingram, Press Officer, Telephone: (202) 694-1220.

(Authority: Government in the Sunshine Act, 5 U.S.C. 552b)

Vicktoria J. Allen,
Acting Deputy Secretary of the Commission.

[FR Doc. 2022-26498 Filed 12-1-22; 4:15 pm]

BILLING CODE 6715-01-P